DEPARTMENT OF THE INTERIOR

National Park Service

[NPS-WASO-NRNHL-DTS#-35810; PPWOCRADI0, PCU00RP14.R50000]

National Register of Historic Places; Notification of Pending Nominations and Related Actions

AGENCY: National Park Service, Interior.

ACTION: Notice.

SUMMARY: The National Park Service is soliciting electronic comments on the significance of properties nominated before April 29, 2023, for listing or related actions in the National Register of Historic Places.

DATES: Comments should be submitted electronically by May 26, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 29, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARKANSAS

Pope County

Reed Cemetery Historic Section, 1200 blk. of West 12th St., Russellville, SG100009033

CALIFORNIA

Glenn County

Willows-Glenn County Airport, 353 Cty. Rd. G, Willows, SG100009029

Los Angeles County

El Segundo Woman's Club, 541 Standard St., El Segundo, SG100009028

Riverside County

Wolf Store and Vail Ranch Headquarters, 32115 Temecula Pkwy., Temecula, SG100009030

FLORIDA

Osceola County

St. Cloud Downtown Historic District, Roughly bounded by 9th St., Wisconsin Ave., Ohio Ave., and US 192, St. Cloud, SG100009031

NEW MEXICO

Santa Fe County

Laboratory of Anthropology Director's Residence, (Buildings Designed by John Gaw Meem MPS), 750 Camino Lejo, Santa Fe, MP100009036

VERMONT

Washington County

Wiswell House, 3296 Main St., Cabot, SG100009035

VIRGINIA

Northumberland County

Gascony, 356 Gascony Ln., Kilmarnock, SG100009027

Additional documentation has been received for the following resource:

MICHIGAN

Kalamazoo County

Acres, The (Additional Documentation), 10036,10069,11090,11108 and 11185 Hawthorne Dr., Charleston Township, AD04000458

Authority: Section 60.13 of 36 CFR part 60.

Dated: May 3, 2023.
Sherry A. Frear,
Chief, National Register of Historic Places/National Historic Landmarks Program.

[FR Doc. 2023-10050 Filed 5-10-23; 8:45 am]

BILLING CODE 4312-52-P